DEPARTMENT OF LABOR

Employment and Training Administration

Investigations Regarding Certifications of Eligibility To Apply for Worker Adjustment Assistance

Petitions have been filed with the Secretary of Labor under section 221 (a) of the Trade Act of 1974 (“the Act”) and are identified in the Appendix to this notice. Upon receipt of these petitions, the Director of the Division of Trade Adjustment Assistance, Employment and Training Administration, has instituted investigations pursuant to section 221 (a) of the Act.

The purpose of each of the investigations is to determine whether the workers are eligible to apply for adjustment assistance under title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 15, 2002.

Interested persons are invited to submit written comments regarding the subject matter of the investigations to the Director, Division of Trade Adjustment Assistance, at the address shown below, not later than February 4, 2002.

The petitions filed in this case are available for inspection at the Office of the Director, Division of Trade Adjustment Assistance, Employment and Training Administration, U.S. Department of Labor, Room C-5311, 200 Constitution Avenue, NW., Washington, DC. 20210.

Signed at Washington, DC this 21st day of December, 2001.
Edward A. Tomchick,
Director, Division of Trade Adjustment Assistance.

Appendix

Petitions Instituted on 12/21/2001
TA-W | Subject firm (Petitioners) | Location | Date of petition | Product(s)
40,457 | Trane Company (IAMAW) | La Crosse, WI | 10/10/2001 | Air conditioning equipment.
40,458 | Handler Textile—Duro (Co.) | Stone Mountain, GA | 10/24/2001 | Textile processing.
40,459 | Ispat Inland, Inc. (Co.) | East Chicago, IL | 12/13/2001 | Cold rolled flat steel.
40,460 | Radax Industries (Wrks) | Webster, NY | 10/22/2001 | Hex socket set screws.
40,461 | Daishowa American Co. Ltd (Wrks) | Port Angeles, WA | 12/10/2001 | Alder chips.
40,462 | Vishay Vitramon (Co.) | Roanoke, VA | 12/12/2001 | Ceramic capacitors.
40,463 | Dunham-Bush, Inc. (Co.) | Harrisonburg, VA | 10/31/2001 | Heating and air haulders equipment.
40,464 | Low Cost Manufacturing (Wrks) | Utica, NY | 10/08/2001 | Customer replacement units.
40,465 | Hershey Foods Corp (Wrks) | Pennsburg, PA | 11/29/2001 | Hershey's Pot of Gold Candies.
40,466 | Precision Cable Assemblie (Wrks) | Longansport, IN | 12/14/2001 | Wire harnesses—cables.
40,467 | Gold Seam (Wrks) | Passaic, NJ | 10/30/2001 | Ladies' blouses.
40,468 | DT Magnetics Int'l (Wrks) | Dover, NH | 10/22/2001 | Power transformers.
40,469 | Kellogg Crankshaft Co (Union) | Jackson, MI | 11/15/2001 | Automobile crankshaft.
40,470 | RBN Manufacturing, Inc. (Co.) | Dothan, AL | 11/09/2001 | Boxer shorts, knit tops.
40,471 | FCI USA, Inc. (Wrks) | Cypress, CA | 10/23/2001 | Data and telecommunications.
40,472 | Romart, Inc. (UNITE) | Scranton, PA | 10/24/2001 | Men's dress and sport coats.
40,473 | Marlan Tool, Inc. (Wrks) | Meadville, PA | 10/31/2001 | Design molds—plastic parts.
40,474 | Acme Steel Co (USWA) | Chicago, IL | 10/26/2001 | Steel coils.
40,475 | Quality Tool and Die (Wrks) | Meadville, PA | 11/16/2001 | Mold and die tooling.
40,476 | A.S. Haight (UNITE) | Cartersville, GA | 11/19/2001 | Screen printing cloth.
40,477 | Precision Tool and Die (Wrks) | Louisville, KY | 11/16/2001 | Tooling and die components.
40,478 | Dimension Carbide, Inc. (Co.) | Guys Mills, PA | 11/15/2001 | Custom form grinding.
40,479 | Gategourmet Unit 498 (Wrks) | Charlotte, NC | 11/06/2001 | Food for airlines.
40,480 | Flambeau Micro (Co.) | Sun Prairie, WI | 10/25/2001 | Motorola cell phone components.
40,481 | Artex International (Co.) | Highland, IL | 10/20/2001 | Table linens—airline, restaurants.
40,482 | Bridgestone/Firestone (USWA) | Russellville, AR | 10/19/2001 | Inner tubes.
40,483 | Sumitomo Electric Wiring (Co.) | Morgantown, KY | 12/12/2001 | Electric wiring harnesses.
40,484 | Bristol Compressors, Inc (Co.) | Sparta, NC | 10/22/2001 | Compressors for air conditioning.
40,485 | Dyersburg Corp. (Co.) | Charlotte, NC | 12/11/2001 | Yarn dye and piece dye knit fabric.
40,486 | LSI Logic (Wrks) | Santa Clara, CA | 11/07/2001 | Wafer fabrication.
40,487 | Atlanta Manufacturing (Wrks) | Norcross, GA | 10/22/2001 | Cable television electronic headware.
40,488 | Sunbrand (Wrks) | Norcross, GA | 11/05/2001 | Sell & distribution of equipment.
40,489 | Empire Iron Mining (Co.) | Palmer, MI | 11/30/2001 | Iron ore.
40,490 | Schmalbach-Lubeca Plastic (Wrks) | Erie, PA | 10/23/2001 | Metal mold base assemblies.
40,491 | Wesley Industries, Inc (Co.) | New Haven, MI | 11/20/2001 | Gray iron OEM automotive parts.
40,492 | Coastal Lumber Co (Wrks) | Suffolk, VA | 12/04/2001 | Wood products.
40,493 | Kaiser Aluminum Corp (USWA) | Tacoma, WA | 11/09/2001 | Aluminum products.
40,494 | Accuride International (Co.) | So. Bend, IN | 12/17/2001 | Linear slides.
40,495 | Galey and Lord Services (Wrks) | Eagle Pass, TX | 11/30/2001 | Men's and ladies' pants.

[FR Doc. 02-1773 Filed 1-23-02; 8:45 am]

BILLING CODE 4510-30-M